COMMITTEE FOR PURCHASE FROM PEOPLE WHO ARE BLIND OR SEVERELY DISABLED

Procurement List; Proposed Additions

AGENCY: Committee for Purchase from People Who Are Blind or Severely Disabled.

ACTION: Proposed Additions to the Procurement List.

SUMMARY: The Committee is proposing to add to the Procurement List products and services to be furnished by nonprofit agencies employing persons who are blind or have other severe disabilities.

Comments Must Be Received on or Before: December 2, 2007.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C 47(a) (2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Men's Charcoal Colored Cargo Pants HS2347 (All sizes)

Men's Grey Colored Short Sleeve Polo w/pocket 2101-GR (All sizes)

Men's Navy Colored Cargo Pants HS2347 (All sizes)

Men's Navy Colored Labcoat 380 (All sizes)

Men's Navy Colored Long Sleeve Twill 1790-NV (All sizes)

Men's Navy Colored Short Sleeve Polo w/pocket 2101-NV (All sizes)

Men's Navy Colored Side Elastic Pants E-2578 (All sizes)

Men's White Colored Long Sleeve Twill 1790-WT (All sizes)

Men's White Colored Short Sleeve Polo w/pocket 2101-WH (All sizes)

Men's Wine Colored Long Sleeve Twill 1790-WN (All sizes)

Men's Wine Colored Short Sleeve Polo w/pocket 2101-WN (All sizes)

Navy Colored 3-1 Parka w/reflective panels HS3334 (All sizes)

Unisex Grey Colored Hooded Sweatshirt 1805H (All sizes)

Unisex Grey Colored Sweatshirt 73157 (All sizes)

Unisex Hunter Green Colored Hooded Sweatshirt 1805H (All sizes)

Unisex Hunter Green Colored Sweatshirt 73157 (All sizes)

Unisex Long Sleeve Denim 3211DD (All sizes)

Unisex Navy Colored Hooded Sweatshirt 1805H (All sizes)

Unisex Navy Colored Long Sleeve Polo w/pocket 2108-NV (All sizes)

Unisex Navy Colored Sweatshirt 73157 (All sizes)

Unisex Wine Colored Long Sleeve Polo w/pocket 2108-WN (All sizes)

Women's Charcoal Colored Cargo Pants HS2351 (All sizes)

Women's Grey Colored Short Sleeve Polo w/o Pocket OB12-GR (All sizes)

Women's Navy Colored Cargo Pants HS2351 (All sizes)

Women's Navy Colored Labcoat 382 (All sizes)

Women's Navy Colored Long Sleeve Twill 5790-NV (All sizes)

Women's Navy Colored Short Sleeve Polo w/o Pocket OB12-NV (All sizes)

Women's Navy Colored Side Elastic Pants E-8578 (All sizes)

Women's White Colored Long Sleeve Twill 5790-WT (All sizes)

Women's White Colored Short Sleeve Polo w/o Pocket OB12-WH (All sizes)

Women's Wine Colored Long Sleeve Twill 5790-WN (All sizes)

Women's Wine Colored Short Sleeve Polo w/o Pocket OB12-WN (All sizes)

NPA: Human Technologies Corporation, Utica, NY.

Coverage: C-List for the total Government requirements for U.S. Department of Agriculture, Minneapolis, MN.

Contracting Activity: U.S. Department of Agriculture, Animal and Plant Health Inspection Service (APHIS), Marketing and Regulatory Programs Business Services (MRPBS), Minneapolis, MN.

Services

Service Type/Location: Document Destruction, Internal Revenue Service, 227 N. Bronough Street, Tallahassee, FL.

NPA: Challenge Enterprises of North Florida, Inc., Green Cove Springs, FL.

Contracting Activity: Department of the Treasury, Internal Revenue Services, Chamblee, GA.

Service Type/Location: Document Destruction, Southwest VA Consolidated Mail-Out Pharmacy (CMOP), 3675 E. Britania Dr., Tucson, AZ.

NPA: Beacon Group SW, Inc., Tucson, AZ.

Contracting Activity: Department of Veteran Affairs, Consolidated Mail-Out Pharmacy (CMOP), Tucson, AZ.

Kimberly M. Zeich,
Director, Program Operations.

[FR Doc. E7-21605 Filed 11-1-07; 8:45 am]

BILLING CODE 6353-01-P